DEPARTMENT OF THE INTERIOR

National Park Service

[NPS-WASO-NAGPRA-NPS0035042; PPWOCRADN0-PCU00RP14.R50000]

Notice of Inventory Completion: Alabama Department of Transportation, Montgomery, AL

AGENCY: National Park Service, Interior.

ACTION: Notice.

SUMMARY: The Alabama Department of Transportation (ALDOT) has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to ALDOT. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to ALDOT at the address in this notice by January 19, 2023.

ADDRESSES: William B. Turner, Alabama Department of Transportation, 1409 Coliseum Blvd., Montgomery, AL 36110, telephone (334) 242-6144, email turnerw@dot.state.al.us.

SUPPLEMENTARY INFORMATION: Notice is here given in accordance with the Native American Graves Protection and Repatriation Act (NAGPRA), 25 U.S.C. 3003, of the completion of an inventory of human remains and associated funerary objects under the control of the Alabama Department of Transportation, Montgomery, AL. The human remains were removed from Montgomery and Walker Counties, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Alabama Department of Transportation and the University of Alabama professional staff in consultation with representatives of The Muscogee (Creek) Nation.

History and Description of the Remains

In May of 2002, human remains representing, at minimum, two individuals were removed from the Lost Creek site, 1Wa186, in Walker County, AL, by the Office of Archaeological Research at the University of Alabama Museums, prior to road relocation and bridge replacement by the Alabama Department of Transportation. In May of 2002, the collection was obtained by University of Alabama, and in 2022, ALDOT assumed control. No known individuals were identified. The 155 lots of associated funerary objects present in the collection include ceramic sherds, sandstone fragments, lithic tools and debitage, fire cracked rock, shell, faunal remains, botanical remains, and charcoal samples.

Based on analysis of the material cultural remains recovered from 1Wa186, the primary occupation of the site occurred during the West Jefferson Phase of the Late Woodland.

In 1972, human remains representing, at minimum, 12 individuals were removed from the Zeigler Site, 1Mt86, in Montgomery County, AL. Burials were removed by University of Alabama archeologists working under contract to ALDOT during Phase III Data Recovery excavations conducted prior to Interstate 65 construction near the city of Montgomery. In June of 1972, the collection was obtained by University of Alabama, and in 2022, ALDOT assumed control. No known individuals were identified. The 66 associated funerary objects are 65 shell beads and 1 modified shell fragment.

Based on analysis of the artifacts recovered from 1Mt86, the site is primarily a Late Woodland village belonging to the Hope Hull Phase. Some evidence of an earlier, Late Woodland Autauga Phase was also present at the site.

Cultural affiliation of the human remains listed in this notice with The Muscogee (Creek) Nation is based on their recovery within the historically Muskogean-speaking area.

Determinations Made by the Alabama Department of Transportation

Officials of the Alabama Department of Transportation have determined that:

• Pursuant to 25 U.S.C. 3001(9), the human remains described in this notice represent the physical remains of 14 individuals of Native American ancestry.

• Pursuant to 25 U.S.C. 3001(3)(A), the 221 objects described in this notice are reasonably believed to have been placed with or near individual human remains at the time of death or later as part of the death rite or ceremony.

• Pursuant to 25 U.S.C. 3001(2), there is a relationship of shared group identity that can be reasonably traced between the Native American human remains and The Muscogee (Creek) Nation.

Additional Requestors and Disposition

Lineal descendants or representatives of any Indian Tribe or Native Hawaiian organization not identified in this notice that wish to request transfer of control of these human remains and associated funerary objects should submit a written request with information in support of the request to William B. Turner, Alabama Department of Transportation, 1409 Coliseum Blvd., Montgomery, AL 36110, telephone (334) 242-6144, email turnerw@dot.state.al.us, by January 19, 2023. After that date, if no additional requestors have come forward, transfer of control of the human remains and associated funerary objects to The Muscogee (Creek) Nation may proceed.

The Alabama Department of Transportation is responsible for notifying The Muscogee (Creek) Nation that this notice has been published.

Dated: December 13, 2022.
Melanie O'Brien,
Manager, National NAGPRA Program.

[FR Doc. 2022-27531 Filed 12-19-22; 8:45 am]

BILLING CODE 4312-52-P